DEPARTMENT OF COMMERCE

National Oceanic and Atmospheric Administration

Proposed Information Collection; Comment Request; Identification of Northeast Regional Ocean Council Information Network Using Social Network Analysis

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 30, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Chris Ellis, (843) 740-1195; Chris.Ellis@noaa.gov.

SUPPLEMENTARY INFORMATION:

I. Abstract

The Northeast Regional Ocean Council (NROC) is a State and Federal partnership with the goal of engaging in regional protection and balanced use of ocean and coastal resources. NROC's coordinated approach reaches across State boundaries to find and implement solutions to the region's most pressing ocean and coastal issues. NROC's membership includes New England coastal State agencies and Federal agencies.

The work of the Council focuses primarily on coastal hazards resilience and ocean energy planning and management. NROC's members come from varied expertise and work on these issues in many capacities. A social network analysis will serve to identify the network of people working on NROC's key issues, both within and outside of the organization.

NROC members will be queried regarding their communications on NROC issues and value derived from membership. The resulting information can be used to evaluate the efficiency of the network, where gaps may exist, and additional partnerships that would benefit the Council's work.

II. Method of Collection

Respondents will be surveyed electronically. Submission results will be online.

III. Data

OMB Control Number: None.

Form Number: None.

Type of Review: Regular submission.

Affected Public: State, local, or Tribal government; Federal government.

Estimated Number of Respondents: 45.

Estimated Time per Response: 15 minutes.

Estimated Total Annual Burden Hours: 11 hours, 25 minutes.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 24, 2010.
Gwellnar Banks,
Management Analyst, Office of the Chief Information Officer.

[FR Doc. 2010-4101 Filed 2-26-10; 8:45 am]

BILLING CODE 3510-JE-P